DEPARTMENT OF LABOR

Employment and Training Administration

[NAFTA-5309]

Hayward Pool Products, Inc., a/k/a Hayward Industries, Inc., Kings Mountain, North Carolina, Notice of Termination of Investigation

Pursuant to Title V of the North American Free Trade Agreement Implementation Act and in accordance with section 250(a), Subchapter D, Chapter 2, title II of the Trade Act of 1974, as amended (19 U.S.C. 2331), an investigation was initiated on September 4, 2001, in response to a worker petition which was filed by the company on behalf of its workers at Hayward Pool Products, Inc., a/k/a/ Hayward Industries, Inc., Kings Mountain, North Carolina. The workers produce products related to the swimming pool industry, i.e. filters, skimmers, spare parts, etc.

The petitioner has requested that the petition be withdrawn. Consequently further investigation in this case would serve no purpose, and the investigation has been terminated.

Signed in Washington, DC, this 15th day of October, 2001.
Linda G. Poole,
Certifying Officer, Division of Trade Adjustment Assistance.

[FR Doc. 01-27236 Filed 10-29-01; 8:45 am]

BILLING CODE 4510-30-M